DEPARTMENT OF COMMERCE

National Oceanic and Atmospheric Administration

50 CFR Part 660

[Docket No.230508-0124; RTID 0648-XD072]

Fisheries Off West Coast States; Modification of the West Coast Salmon Fisheries; Inseason Actions #1-#10

AGENCY: National Marine Fisheries Service (NMFS), National Oceanic and Atmospheric Administration (NOAA), Commerce.

ACTION: Inseason modification of 2023 management measures.

SUMMARY: NMFS announces ten inseason actions for the 2023-2024 ocean salmon fishing season. These inseason actions modify the commercial salmon troll fisheries in the area from the U.S./Canada border to Cape Falcon, OR.

DATES: The effective date for these inseason actions are set out in this document under the heading “Inseason Actions” and the actions remain in effect until superseded or modified.

FOR FURTHER INFORMATION CONTACT: Shannon Penna, 562-980-4239, Shannon.Penna@noaa.gov.

SUPPLEMENTARY INFORMATION:

Background

The annual management measures for the 2023 and early 2024 ocean salmon fisheries (88 FR 30235, May 11, 2023) govern the commercial and recreational fisheries in the area from the U.S./Canada border to the U.S./Mexico border, effective from 0001 hours Pacific Daylight Time (PDT), May 16, 2023, until the effective date of the 2024 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (Cape Falcon, OR, to the U.S./Mexico border). The action described in this document affects the NOF commercial salmon troll fisheries, as set out under the heading “Inseason Actions” below.

Consultation with the Council Chairperson on these inseason actions occurred on May 16, 2023, May 24, 2023, and June 8, 2023. These consultations included representatives from NMFS, Washington Department of Fish and Wildlife, Oregon Department of Fish and Wildlife, and California Department of Fish and Wildlife. Representatives from the Salmon Advisory Subpanel and Salmon Technical Team were also present. A Council representative was present on May 24, 2023, and June 8, 2023.

These inseason actions were announced on NMFS' telephone hotline and U.S. Coast Guard radio broadcast on the date of the consultations (50 CFR 660.411(a)(2)).

Inseason Actions

Authorization for Inseason Actions #1-#10

The NMFS West Coast Regional Administrator (RA) considered the 2023 abundance forecasts for Chinook salmon stocks, the timing of the actions relative to the length of the season, and determined that these inseason actions described below are necessary to meet management and conservations goals for the 2023-2024 management measures. These inseason actions modified quotas and/or fishing seasons under 50 CFR 660.409(b)(1)(i).

Inseason Action #1

Description of the action: Inseason action #1 modifies the NOF ocean salmon troll commercial fishery. The area between the U.S./Canada border and the Queets River (La Push and Neah Bay subareas) is closed.

Effective dates: Inseason action #1 takes effect on May 17, 2023, at 12:01 a.m. and remains in effect until superseded.

Reason for the action: The area between the U.S./Canada border and the Queets River (La Push and Neah Bay subareas) was closed through inseason action under the 2022-2023 management measures (88 FR 37479, June 8, 2023) from May 11, 2023, to May 15, 2023. The 2023 management measures (88 FR 30235, May 11, 2023) set the start of the season on Tuesday, May 16, 2023, however, the landing week adopted in the 2023 management measures is Thursday-Wednesday. To remain consistent with the fishing season as adopted into regulation, the fishery was closed in order for managers to take subsequent action to align the initial open fishery period with the landing week as defined in the 2023 management measures.

Inseason Action #2

Description of the action: Inseason action #2 modifies the NOF ocean salmon troll commercial fishery. The landing and possession limit in the area between the U.S./Canada border and Cape Falcon is 150 Chinook salmon per vessel per landing week (Thursday-Wednesday) May 17, 2023, through June 21, 2023, and for the period June 22, 2023, through June 29, 2023.

Effective dates: Inseason action #2 took effect on May 17, 2023, at 12:01 a.m. and remains in effect until June 29, 2023, at 11:59 p.m.

Reason for the action: Inseason action #2 was necessary to align the landing and possession limit for the area between the U.S./Canada border to Cape Falcon under the 2022-23 management measures (adopted through inseason action (88 FR 37479, June 8, 2023)) for fisheries occurring after May 15, 2023, with fisheries that occurred from May 11, 2023, through May 15, 2023.

Inseason Action #3

Description of the action: Inseason action #3 modifies the NOF ocean salmon troll commercial fishery. The area between the U.S./Canada border and the Queets River (La Push and Neah Bay subareas) is open. For the area between the U.S./Canada border and the Queets River, the landing and possession limit is 35 Chinook salmon per vessel per landing week (Thursday-Wednesday) May 18, 2023, through June 21, 2023, and for the period June 22, 2023, through June 29, 2023.

Effective dates: Inseason action #3 took effect on May 18, 2023, at 12:01 a.m. and remains in effect until June 29, 2023, at 11:59 p.m.

Reason for the action: Inseason action #3 opens the area from the U.S./Canada border and the Queets River (La Push and Neah Bay subareas) that was previously closed on May 11, 2023 (88 FR 37479, June 8, 2023). In addition, the landing and possession limit that was put in place for the landing week from May 1, 2023, to May 10, 2023, was reduced from 70 Chinook salmon to 35 Chinook salmon per vessel per landing week (Thursday-Wednesday). This adjustment was necessary in order to not exceed the Chinook salmon guideline in the area due to high Chinook salmon catch to date and to preserve the length of the season.

Inseason Action #4

Description of the action: Inseason #4 modifies the NOF commercial salmon troll fishery. The landing and possession limit in the area between the Queets River and Leadbetter Point (Westport subarea) is 200 Chinook salmon per vessel per landing week (Thursday-Wednesday) May 15, 2023, through June 21, 2023, and for the period June 22, 2023, through June 29, 2023.

Effective dates: Inseason action #4 took effect on May 25, 2023, at 12:01 a.m. and remains in effect until June 29, 2023, at 11:59 p.m.

Reason for the action: Inseason action #4 increases the landing and possession limit for the Westport subarea from 150 Chinook salmon to 200 Chinook salmon. Due to lower than anticipated catch rates, this action will result in increased fishing interest and allow greater access to the quota for the area without exceeding it.

Inseason Action #5

Description of the action: Inseason #5 modifies the NOF commercial salmon troll fishery. The landing and possession limit in the area between Leadbetter Point and Cape Falcon (Columbia River subarea) is 80 Chinook salmon per vessel per landing week (Thursday-Wednesday) May 25, 2023, through June 21, 2023, and for the period June 22, 2023, through June 29, 2023.

Effective dates: Inseason action #5 took effect on May 25, 2023, at 12:01 a.m. and remains in effect until June 29, 2023, at 11:59 p.m.

Reason for the action: Inseason action #5 increases the landing and possession limit for the area between Leadbetter Point and Cape Falcon (Columbia River subarea) from 60 Chinook salmon to 80 Chinook salmon. The action was taken because of lower than anticipated catch rates. This action will result in increased fishing interest and allow greater access to the quota without exceeding it.

Inseason Action #6

Description of the action: Inseason #6 modifies the NOF commercial salmon troll fishery. The landing and possession limit in the area between the U.S./Canada border and Cape Falcon is 200 Chinook salmon per vessel per landing week (Thursday-Wednesday) May 25, 2023, through June 21, 2023, and for the period June 22, 2023, through June 29, 2023.

Effective dates: Inseason action #6 took effect on May 25, 2023, at 12:01 a.m. and remains in effect until June 29, 2023, at 11:59 p.m.

Reason for the action: Inseason action #6 increases the area NOF landing and possession limit from 150 Chinook salmon to 200 Chinook salmon to match the landing and possession limit of the largest of the subareas from the Queets River to Leadbetter Point (Westport subarea).

Inseason Action #7

Description of the action: Inseason #7 modifies the NOF commercial salmon troll fishery. The landing and possession limit in the area between Leadbetter Point and Cape Falcon (Columbia River subarea) is 100 Chinook salmon per vessel per landing week (Thursday-Wednesday) June 8, 2023, through June 21, 2023, and for the period June 22, 2023, through June 29, 2023.

Effective dates: Inseason action #7 took effect on June 8, 2023, at 12:01 a.m. and remains in effect until June 29, 2023, at 11:59 p.m.

Reason for the action: Inseason action #7 increases the landing and possession limit in the area between Leadbetter Point and Cape Falcon (Columbia River subarea) from 80 Chinook salmon to 100 Chinook salmon. This action will allow for better fishing opportunities to harvest the remaining quota and subarea caps without exceeding them.

Inseason Action #8

Description of the action: Inseason action #8 modifies the NOF commercial salmon troll fishery. The landing and possession limit in the area between the Queets River and Leadbetter Point (Westport subarea) is 250 Chinook salmon per vessel per landing week (Thursday-Wednesday) June 8, 2023, through June 21, 2023, and for the period June 22, 2023, through June 29, 2023.

Effective dates: Inseason action #8 took effect on June 8, 2023, at 12:01 a.m. and remains in effect until June 29, 2023, at 11:59 p.m.

Reason for the action: Inseason action #8 increases the landing and possession limit in the area between the Queets River and Leadbetter Point (Westport subarea) from 200 Chinook salmon to 250 Chinook salmon. This action will allow for better fishing opportunities to harvest the remaining quota and subarea caps without exceeding them.

Inseason Action #9

Description of the action: Inseason action #9 modifies the NOF commercial salmon troll fishery. The landing and possession limit in the area between the Queets River and the U.S./Canada border (La Push and Neah Bay subareas) is 40 Chinook salmon per vessel per landing week (Thursday-Wednesday) June 9, 2023, through June 21, 2023, and for the period June 22, 2023, through June 29, 2023.

Effective dates: Inseason action #9 took effect on June 8, 2023, at 12:01 a.m. and remains in effect until June 29, 2023, at 11:59 p.m.

Reason for the action: Inseason action #9 increases the landing and possession limit in the area between the Queets River and the U.S./Canada border (La Push and Neah Bay subareas) from 35 Chinook salmon to 40 Chinook salmon. This action will allow for better fishing opportunities to harvest the remaining quota and subarea caps without exceeding them.

Inseason Action #10

Description of the action: Inseason action #10 modifies the NOF commercial salmon troll fishery. The landing and possession limit in the area between the U.S./Canada border and Cape Falcon is 250 Chinook salmon per vessel per landing week (Thursday-Wednesday) June 8, 2023, through June 21, 2023, and for the period June 22, 2023, through June 22, 2023, through June 29, 2023.

Effective dates: Inseason action #10 took effect on June 8, 2023, at 12:01 a.m. and remains in effect until June 29, 2023, at 11:59 p.m.

Reason for the action: Inseason action #10 increases the landing and possession limit in the area NOF from 200 Chinook salmon to 250 Chinook salmon. This action will allow for better fishing opportunities to harvest the remaining quota without exceeding it.

All other restrictions and regulations remain in effect as announced for the 2023 ocean salmon fisheries (88 FR 30235, May 11, 2023).

The RA determined that these inseason actions were warranted based on the best available information on Pacific salmon abundance forecasts, landings and effort patterns to date, anticipated fishery effort and projected catch, and the other factors and considerations set forth in 50 CFR 660.409. The States and tribes manage the fisheries in state waters adjacent to the areas of the U.S. exclusive economic zone (3-200 nautical miles; 5.6-370.4 kilometers) off the coasts of the States of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory action was provided to fishers through telephone hotlines and radio notifications. These actions comply with the requirements of the annual management measures for ocean salmon fisheries (88 FR 30235, May 11, 2023), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: July 6, 2023.
Jennifer M. Wallace,
Acting Director, Office of Sustainable Fisheries, National Marine Fisheries Service.

[FR Doc. 2023-14721 Filed 7-12-23; 8:45 am]

BILLING CODE 3510-22-P